DEPARTMENT OF TRANSPORTATION

Federal Railroad Administration

Environmental Impact Statement for the ACEforward Program From Merced, Modesto and Stockton to San Jose, California

AGENCY: Federal Railroad Administration (FRA) U.S. Department of Transportation (DOT).

ACTION: Notice of intent to prepare an Environmental Impact Statement (EIS).

SUMMARY: FRA is issuing this notice to advise other agencies and the public that FRA and the San Joaquin Regional Rail Commission (SJRRC) will jointly prepare an Environmental Impact Statement (EIS) and Environmental Impact Report (EIR) for the Altamont Corridor Express (ACE) program also known as the ACEforward Program in compliance with the National Environmental Policy Act of 1969 (NEPA) and the California Environmental Quality Act (CEQA).

The EIS will analyze potential impacts of the proposed action of improving and expanding existing corridor rail service between Stockton and San Jose, California and extending new rail service to Modesto and Merced, California. FRA has responsibility for overseeing the safety of railroad operations and may need to take certain regulatory action prior to operation of the new or expanded service. FRA is authorized to provide Federal funding for intercity passenger rail capital investments and may provide financial assistance for the program, including grant funding. FRA will serve as the federal lead agency for the preparation of the EIS. SJRRC will serve as the state lead agency for the preparation of the EIR. The Federal Transit Administration (FTA) has responsibility for providing Federal funding for intra-city commuter rail capital investments and has funded improvements in this corridor in the past, including intermodal stations and park-and-ride lots. Since FTA maintains an interest in transportation improvements in the corridor, it will be a cooperating agency in accordance with 40 CFR 1501.6.

FRA is publishing this notice to solicit public and agency input into the development of the scope of the EIS and to advise the public that outreach activities conducted by the FRA, SJRRC and their representatives will be considered in the preparation of the EIR/EIS.

DATES: Public scoping meetings were advertised locally and held in Santa Clara, Fremont, Modesto, Livermore, and Tracy, California from July 22 to July 30, 2013. The program's purpose and need and the description of alternatives under consideration for the proposed action were presented at these meetings. Scoping materials and information concerning the scoping meetings is available through the SJRRC's Internet site: http://www.acerail.com/About/Public-Projects/ACEforward.

ADDRESSES: Written comments on the scope of the ACEforward Program EIR/EIS, including the program's purpose and need, the alternatives to be considered, the impacts to be evaluated and the methodologies to be used in the evaluations, should be provided to the FRA and/or SJRRC within thirty (30) days of the publication of this notice. Written comments may be sent to Mr. Dan Leavitt, Manager of Regional Initiatives, ATTN: ACEforward Program EIR/EIS, 949 East Channel Street, Stockton, CA 95202, or via email with the Subject Line “ACEforward Program EIR/EIS” to: aceforward@acerail.com. Comments may also be sent to Ms. Stephanie Perez, Environmental Protection Specialist, Office of Railroad Policy and Development, Federal Railroad Administration, 1200 New Jersey Avenue SE., Washington, DC 20590, telephone (202) 493-0388.

SUPPLEMENTARY INFORMATION:

Past Planning Efforts

SJRRC and the California High Speed Rail Authority (CHSRA) conducted planning for the Altamont Corridor Rail Project (ACRP) from 2009 to 2012 to develop a dedicated regional rail corridor from Stockton and Modesto to San Jose through the Altamont Pass. This planning for commuter and intercity passenger rail service to accommodate electric powered passenger trains. The ACRP would service regional transportation needs and would provide an opportunity to link to the planned California High Speed Train (HST) system.

The ultimate-build concept of the ACRP included a grade-separated, independently-owned right of way for electrified service from Stockton to San Jose. While the ultimate-build concept of the ACRP remains a long-term potential, SJRRC has identified shorter term goals to modernize the existing ACE service that would provide faster intercity and commuter train service and a connector link between Stockton, Merced, and San Jose as early as within the next 10 years. The ACEforward Program includes a new suite of improvements developed by SJRRC to deliver those present goals. The EIR/EIS will address the ACEforward Program. If the ultimate-build concept is to be implemented in the future, it would be the subject of a separate environmental review process.

As of June 2013, the SJRRC is now advancing the ACEforward Program. ACEforward is consistent with the Metropolitan Transportation Commission Bay Area Regional Rail Plan, which identified the Altamont Corridor as a key future northern California regional rail route. ACEforward will build upon the Bay Area Regional Rail Plan and the prior planning for the ACRP. ACEforward is also consistent with the CHSRA 2012 Business Plan in relation to providing an opportunity to connect existing intercity and commuter rail services to future HST service.

Purpose and Need of the Proposed Program

The purpose of the ACEforward Program is to implement a suite of improvements to reduce travel time, increase service reliability and flexibility, improve passenger facilities and extend the ACE rail system to downtown Modesto and downtown Merced.

The need for the ACEforward Program is to enhance intercity rail services in the northern San Joaquin Valley of the ACE corridor connecting the Southern Bay area with the Tri-Valley and the San Joaquin Valley. This need stems from the social and economic ties and travel demand that bind together the Northern San Joaquin Valley, the Tri-Valley and the Southern Bay area, as well as high levels of existing and anticipated growth, travel demand, and congestion that will likely cause environmental degradation and higher safety risks, if not addressed. This need cannot be met by the existing ACE service or infrastructure, which has significant operating limitations, such as limited capacity single track for much of the route, slow average operating speeds, service limitations, and lack of existing service to Modesto and Merced.

An expanded and improved ACE would provide an alternative to automobile transportation that would help lower greenhouse gas emissions, improve air quality, and further regional land use and transportation planning goals under Senate Bill (SB) 375 and other local, regional, and state sustainability initiatives. In addition to the environmental and mobility benefits of expanded intercity rail service with downtown stations, an improved ACE would provide a catalyst for smart growth in communities by revitalizing city core areas and addressing traffic congestion issues in the cities of the northern Central Valley. The extensions to Modesto and Merced, while servicing existing intercity transportation needs, will also provide future opportunities to link to the expanding HST system.

SJRRC, along with other rail providers, has partnered with the Union Pacific Railroad Company (UPRR) in a Memorandum of Understanding (MOU) to identify improvements needed to increase ACE service, which are included in the ACEforward Program. UPRR has agreed to validate previously identified improvements associated with the near-term increase of daily round-trips as well as study additional improvements that may be required to support further service expansion.

Proposed Program

ACEforward is a phased improvement program to reduce travel time and improve service reliability and passenger facilities along the existing Stockton to San Jose corridor, and to extend ACE rail service to Modesto and to Merced. This program would provide the foundation for the long term plan for SJRRC intercity passenger rail services.

The program would improve the existing ACE service managed by SJRRC by delivering safety and operational improvements that enable expansion of service to six daily round trips between Stockton and San Jose and extending ACE service to Modesto, which could occur as early as 2018. Following that, the program would extend ACE service to Merced and service frequency from Stockton to San Jose would increase to 10 or more daily round trips, perhaps as soon as 2022.

The ACEforward EIR/EIS will include development of preliminary engineering designs and assessment of environmental effects associated with the construction, operation, and maintenance of rail improvements, including new track corridors, additional track, track realignments, ancillary facilities, new stations, and station improvements along the Altamont Corridor.

The FRA and SJRRC will use a tiered process for the environmental review, as provided for in 40 CFR 1508.28 and in accordance with FRA Guidance. Tiering is a staged environmental review process. Tier-1 (or programmatic) analysis comprehensively reviews the environmental, impacts of a program of improvements at a broad conceptual level of analysis including cumulative impacts. Tier-2 (or project) analysis is conducted for specific improvements that are sufficiently designed to allow for a detailed analysis of site-specific compenent projects and alternatives and identification and disclosure of related environmental impacts. Improvements analyzed at a Tier-1 level of review would subsequently be reviewed at a Tier-2 level before they can be approved and constructed at a project level. The EIS/EIR for ACEforward will include both a Tier-1 and Tier-2 analysis as discussed below.

Programmatic (Tier-1) Analysis

The analysis will describe impacts at a conceptual level of detail focused on the selection of corridors for new service and general environmental impacts associated with that selection. The EIR/EIS will programmatically analyze the following:

• Stockton to San Jose Improvements

○ Increase of service to 10 trains or more in the future, including corridor improvements necessary to support such increases. This will include analysis of potential pinch points identified by UPRR in Niles Canyon, between Newark and Alviso, and between Santa Clara and San Jose.

○ Potential shift in service to a new passenger route along UPRR through downtown Tracy. This improvement would allow for a downtown Tracy station with improved transit connections and close to urban infill/mixed use development in the City.

○ Potential new stations at River Islands in Lathrop and downtown Tracy. A new station in Lathrop would allow for increased ridership potential. Relocation of the Tracy station would allow the benefits noted above.

○ Potential improved connection to Bay Area Rapid Transit (BART) service in the Tri-Valley area that would increase connectivity.

• New extension to Merced

○ Expansion of service to Merced using existing UPRR track, new track built within the UPRR right-of-way, new track outside the UPRR right-of-way, or some combination thereof.

○ Up to 10 or more daily round trip trains and new downtown stations in Turlock and Merced. Additional connections and stations would increase ridership and allow greater opportunities for alternatives to vehicle travel for San Joaquin Valley residents.

• The programmatic analysis will also address all project elements included in the project level or Tier-2 Analysis as described below.

Project Level (Tier-2) Analysis

Component projects identified for Tier-2 analysis will also be included in the evaluation at the Tier-1 level. The EIR/EIS will assess the environmental effects of at least the following near-term improvements at a project level of detail:

• Service expansion to Modesto by as early as 2018:

○ Service would be expanded using existing UPRR track, new track built within the UPRR ROW, new track outside the UPRR ROW, or some combination thereof.

○ Potential new crossing of the Stanislaus River

○ Up to six daily round trips

○ New stations at downtown Manteca and downtown Modesto

• Improvements necessary to increase service between Stockton and San Jose to 6 daily round trips by as early as 2018, including the following:

○ Upgrade of the track and structures along the former Southern Pacific line through Niles Canyon to accommodate freight traffic

○ New connections to the former Southern Pacific line at Niles Junction and at Hearst

○ Upgrading of sidings (“Radum” siding in Livermore/Pleasanton and Altamont and Midway sidings in the Altamont Hills; “Wyche” siding in Lathrop/Manteca).

○ New connection between the Oakland subdivision and the Fresno subdivision in Lathrop/Manteca area

The EIR/EIS may also analyze the following operational and safety improvements at the project level:

• Grade-crossing improvements at existing at-grade crossings (four quadrant gates, signals, etc.)

• Grade-separations at several high-priority locations between Stockton and San Jose

• Improvements within the existing right of way at Niles Junction in Fremont/Union City and at the Hearst siding in Pleasanton

• Addition of a parking structure at the Pleasanton Station

Alternatives

The EIR/EIS will consider a range of reasonable and feasible alternatives that meet the purpose and need. The EIR/EIS will also consider a No Action or No Project alternative as required under NEPA and CEQA. FRA and SJRRC will consider scoping comments and potential environmental impacts in determining the reasonable alternatives to be considered in the EIR/EIS. Conceptual alternatives for meeting the purpose and need are described below.

No Action Alternative

The No Action (No Project or No Build) alternative serves as the baseline for assessment of alternatives. The No Action alternative represents the region's transportation system (highway, air, and conventional rail) as it exists at the time of the EIR/EIS preparation, and as it would exist in the future without completion of the improvements included in the program description. The No Action alternative defines the existing and future intercity transportation system for the Altamont Corridor and Northern San Joaquin Valley based on programmed and funded improvements to the intercity transportation system, according to the following sources of information: The State Transportation Improvement Program, Regional Transportation Plans for all modes of travel, airport plans, and intercity passenger rail plans.

Independent Right of Way Alternative

Independent right of way adjacent to the UPRR right of way that would seek to maximize the provision of a separate right of way for future ACE service will be considered in specific locations including between Manteca and Merced, and possibly over the Altamont Pass. This alternative would reduce the potential for scheduling and other constraints from operating on shared tracks with freight operations.

Shared Corridor Alternative

A second alternative that may be considered would be provision of a dedicated passenger track within the existing railroad right-of-way. Such a track could be utilized by passenger trains or by freight trains, but would be developed primarily for passenger traffic use.

Other Potential Alternatives

Other alternatives that could be considered could vary proposed program elements. Such variations could include: (1) Other station locations as they arise through the project scoping process; (2) continued use of the existing route to the south of Tracy instead of a downtown alignment; (3) track variations, such as an elevated or sub-grade track instead of an at-grade section; and (4) other variations in alignment, track improvements, service levels, and stations.

The EIS Process and the Role of Participating Agencies and the Public

The purpose of the EIR/EIS process is to assess the potentially significant effects of implementing the proposed action on the physical, human, and natural environment. Areas of investigation will be developed during the scoping process and may include, but not be limited to, transportation impacts; safety and security; land use and zoning; indirect and cumulative impacts; land acquisition, displacements, and relocations; cultural resource impacts, including impacts on historical and archaeological resources and parklands/recreation areas; community disruption and environmental justice; natural resource impacts including air quality, wetlands, water resources, noise, vibration, energy, wildlife and ecosystems, including endangered species and temporary construction impacts.

FRA will comply with all applicable Federal environmental laws, regulations and executive orders during the environmental review process. These requirements include, but are not limited to, the regulations of the CEQ implementing NEPA (40 CFR parts 1500-1508), State CEQA Guidelines (14 California Code of Regulations 15168(b)), and FRA's Procedures for Considering Environmental Impacts (64 FR 28545, May 26, 1999), project-level air quality conformity regulation of the U.S. Environmental Protection Agency (EPA) (40 CFR part 93(b)), Section 404(b)(1) guidelines of EPA (40 CFR part 230), Executive Orders 11988, 11990 and 12898 regarding floodplains, wetlands, and environmental justice, respectively, Section 106 of the National Historic Preservation Act (36 CFR part 800), Section 7 of the Endangered Species Act (50 CFR part 402), and Section 4(f) of the Department of Transportation Act (49 U.S.C. 303). Measures to avoid, minimize, and mitigate all adverse impacts will be identified and evaluated.

The FRA and the SJRRC will assess the site characteristics, size, nature, and timing of the improvements to determine whether the impacts are potentially significant and whether impacts can be avoided or mitigated. The EIR/EIS will identify and evaluate reasonable and feasible alternatives, evaluate the impacts from construction, operation, and maintenance, and identify mitigation measures. Information and documents regarding the ACEforward environmental review process will be made available through the SJRRC's Internet site: http://www.acerail.com/sjrrc/capitalprojects.aspx.

Scoping and Comments

FRA encourages broad participation in the EIS process during scoping and review of the resulting environmental document. Comments are invited from all interested agencies, Native American Tribes and the public to ensure the full range of issues related to the proposed action and all reasonable alternatives are addressed and that all significant issues are identified. Public agencies with jurisdiction are requested to advise FRA and SJRRC of the applicable permit and environmental review requirements of each agency, and the scope and content of the environmental information that is germane to the agency's statutory responsibilities in connection with the proposed program. Agencies are requested to advise the FRA if they anticipate taking a major action in connection with the proposed program and if they wish to cooperate in the preparation of the EIR/EIS.

Issued in Washington, DC, on September 13, 2013.
Renee Cooper,
Staff Director, Office of Passenger and Freight Programs.

[FR Doc. 2013-22598 Filed 9-17-13; 8:45 am]

BILLING CODE 4910-06-P